ENVIRONMENTAL PROTECTION AGENCY

[FRL-9379-01-R9]

Revision of Approved Primacy Program for the Commonwealth of the Northern Mariana Islands

AGENCY: Environmental Protection Agency (EPA).

ACTION: Notice of approval.

SUMMARY: Notice is hereby given that the Commonwealth of the Northern Mariana Islands (CNMI) revised its approved primacy program under the federal Safe Drinking Water Act (SDWA) by adopting regulations that effectuate the federal Ground Water Rule (GWR). The Environmental Protection Agency (EPA) has determined that CNMI's revision request meets the applicable SDWA program revision requirements and the regulations adopted by CNMI are no less stringent than the corresponding federal regulations. Therefore, EPA approves this revision to CNMI's approved primacy program. However, this determination on CNMI's request for approval of a program revision shall take effect in accordance with the procedures described below in the SUPPLEMENTARY INFORMATION section of this notice after the opportunity to request a public hearing.

DATES: A request for a public hearing must be received or postmarked before February 2, 2022.

ADDRESSES: Documents relating to this determination that were submitted by CNMI as part of its program revision request are available for public inspection online at http:/deq.gov.mp/sec.asp?secID=5. In addition, these documents are available between the hours of 7:30 a.m. and 4:30 p.m., Monday through Friday, at the following address: CNMI Bureau of Environmental and Coastal Quality, Gualo Rai Center—Safe Drinking Water Branch 2nd floor, Chalan Pale Arnold—Middle Road, Saipan, MP 96950. If there are issues accessing the website, please contact Travis Spaeth, at (670) 664-8500, or via email at travis.spaeth@becq.gov.mp.

FOR FURTHER INFORMATION CONTACT: Anna Yen, EPA Region 9, Drinking Water Section, via telephone at (415) 972-3976 or via email address at yen.anna@epa.gov.

SUPPLEMENTARY INFORMATION: Background. EPA approved CNMI's initial application for primary enforcement authority (“primacy”) of drinking water systems on November 4, 1982 (47 FR 50105). Since initial primacy approval, EPA has approved various revisions to CNMI's primacy program. For the revision covered by this action, EPA promulgated the GWR at 40 CFR subpart S on November 8, 2006 (71 FR 65574). The GWR provides protection against microbial pathogens in public water systems using ground water sources. EPA has determined that the GWR requirements were adopted into the CNMI Commonwealth Register, Section 2141 (alternatively published as Northern Mariana Islands Administrative Code, Title 65, Chapter 20) in a manner that CNMI's regulations are comparable to and no less stringent than the federal requirements. EPA has also determined that CNMI's program revision request meets all of the regulatory requirements for approval, as set forth in 40 CFR 142.12, including a side-by-side comparison of the Federal requirements demonstrating the corresponding CNMI authorities, additional materials to support special primacy requirements of 40 CFR 142.16, a review of the requirements contained in 40 CFR 142.10 necessary for CNMI to attain and retain primary enforcement responsibility, and a statement by the CNMI Attorney General certifying that CNMI's laws and regulations to carry out the program revision were duly adopted and are enforceable. The Attorney General's statement also affirms that there are no environmental audit privilege and immunity laws that would impact CNMI's ability to implement or enforce the CNMI laws and regulations pertaining to the program revision. Therefore, EPA approves this revision of CNMI's approved primacy program. The Technical Support Document, which provides EPA's analysis of CNMI's program revision request, is available by submitting a request to the following email address: R9dw-program@epa.gov. Please note “Technical Support Document” in the subject line of the email.

Public Process. Any interested person may request a public hearing on this determination. A request for a public hearing must be received or postmarked before February 2, 2022, and addressed to the Regional Administrator of EPA Region 9, via the following email address: R9dw-program@epa.gov, or by contacting the EPA Region 9 contact person listed above in this notice by telephone if you do not have access to email. Please note, “State Program Revision Determination” in the subject line of the email. The Regional Administrator may deny frivolous or insubstantial requests for a hearing. If a timely request for a public hearing is made, then EPA Region 9 may hold a public hearing. Any request for a public hearing shall include the following information: 1. The name, address, and telephone number of the individual, organization, or other entity requesting a hearing; 2. A brief statement of the requesting person's interest in the Regional Administrator's determination and of information that the requesting person intends to submit at such hearing; and 3. The signature of the individual making the request, or, if the request is made on behalf of an organization or other entity, the signature of a responsible official of the organization or other entity.

If EPA Region 9 does not receive a timely request for a hearing or a request for a hearing was denied by the Regional Administrator for being frivolous or insubstantial, and the Regional Administrator does not elect to hold a hearing on their own motion, EPA's approval shall become final and effective on February 2, 2022, and no further public notice will be issued.

Authority: Section 1413 of the Safe Drinking Water Act, as amended, 42 U.S.C. 300g-2 (1996), and 40 CFR part 142 of the National Primary Drinking Water Regulations.

Dated: December 23, 2021.
Deborah Jordan,
Acting Regional Administrator, EPA Region 9.

[FR Doc. 2021-28330 Filed 12-30-21; 8:45 am]

BILLING CODE 6560-50-P